DEPARTMENT OF COMMERCE

Foreign-Trade Zones Board

[Order No. 1582]

Expansion of Foreign-Trade Zone 227; Durant, OK

Pursuant to its authority under the Foreign-Trade Zones Act of June 18, 1934, as amended (19 U.S.C. 81a-81u), the Foreign-Trade Zones Board (the Board) adopts the following Order:

Whereas, the Rural Enterprises of Oklahoma, Inc., grantee of Foreign-Trade Zone 227, submitted an application to the Board for authority to expand its zone to include two sites in Carter County located at the Ardmore Industrial Airpark (Site 2—2,790 acres) in Springer and at the Westport Industrial Park (Site 3—122 acres) in Ardmore, adjacent to the Dallas/Fort Worth Customs and Border Protection port of entry (FTZ Docket 7-2008, filed 2/8/08);

Whereas, notice inviting public comment was given in the Federal Register (73 FR 10421, 2/27/08) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 227 is approved, subject to the FTZ Act and the Board's regulations, including Section 400.28, and subject to the Board's standard 2,000-acre activation limit for the overall general-purpose zone project.

Signed at Washington, DC, this 16th day of October, 2008.
David M. Spooner,
Assistant Secretary of Commerce for Import Administration, Alternate Chairman, Foreign-Trade Zones Board.
Attest:
Andrew McGilvray,
Executive Secretary.

[FR Doc. E8-25579 Filed 10-24-08; 8:45 am]

BILLING CODE 3510-DS-P